NUCLEAR REGULATORY COMMISSION

10 CFR Parts 9 and 35

[NRC-2018-0303]

RIN 3150-AK27

Social Security Number Fraud Prevention

AGENCY: Nuclear Regulatory Commission.

ACTION: Direct final rule; confirmation of effective date.

SUMMARY: The U.S. Nuclear Regulatory Commission (NRC) is confirming the effective date of August 17, 2020, for the direct final rule that was published in the Federal Register on June 2, 2020. This direct final rule amends the NRC's regulations to comply with the Social Security Number Fraud Prevention Act, signed on September 15, 2017.

DATES: The effective date of August 17, 2020, for the direct final rule published June 2, 2020 (85 FR 33527), is confirmed.

ADDRESSES: Please refer to Docket ID NRC-2018-0303 when contacting the NRC about the availability of information for this action. You may obtain publicly-available information related to this action by any of the following methods:

• Federal Rulemaking Website: Go to https://www.regulations.gov and search for Docket ID NRC-2018-0303. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• Attention: The Public Document Room (PDR), where you may examine and order copies of public documents, is currently closed. You may submit your request to the PDR via email at PDR.Resource@nrc.gov or call 1-800-397-4209 between 8:00 a.m. and 4:00 p.m. (EST), Monday through Friday, except Federal holidays.

FOR FURTHER INFORMATION CONTACT: Alexa Sieracki, Office of Nuclear Material Safety and Safeguards, U.S. Nuclear Regulatory Commission, Washington, DC 20555-0001; telephone: 301-415-7509, email: Alexa.Sieracki@nrc.gov.

SUPPLEMENTARY INFORMATION: On June 2, 2020 (85 FR 33527), the NRC published a direct final rule amending its regulations in parts 9 and 35 of title 10 of the Code of Federal Regulations to specify when inclusion of an individual's Social Security account number (SSN) is necessary, include instructions for the partial redaction of SSNs, where feasible, and provide a requirement that SSNs not be visible on the outside of any package sent through the mail.

In the direct final rule, the NRC stated that if no significant adverse comments were received, the direct final rule would become effective on August 17, 2020. The NRC received two comments from the public that supported the proposed changes to the regulations. Because no significant adverse comments were received, the direct final rule will become effective as scheduled.

Dated July 17, 2020.
For the Nuclear Regulatory Commission.
Cindy K. Bladey,
Chief, Regulatory Analysis and Rulemaking Support Branch, Division of Rulemaking, Environmental, and Financial Support, Office of Nuclear Material Safety and Safeguards.

[FR Doc. 2020-15916 Filed 7-23-20; 8:45 am]

BILLING CODE 7590-01-P